ENVIRONMENTAL PROTECTION AGENCY

[EPA-HQ-OPP-2009-1017; FRL-9357-6]

Cancellation Order for Certain Pesticide Registrations: MGK 264, Pyrethrins, Pyriproxyfen, and Permethrin; Correction

AGENCY: Environmental Protection Agency (EPA).

ACTION: Notice; correction.

SUMMARY: EPA issued notices in the Federal Register of November 23, 2011 and February 15, 2012, concerning the voluntary cancellation of several pesticide products, including Amrep, Inc.'s MGK-264/Pyrethrins/Pyriproxyfen/Permethrin product EPA Reg. No. 010807-00448. This document corrects typographical errors in the November 23, 2011 notice and February 15, 2012 cancellation order regarding the EPA registration numbers of the Amrep, Inc., MGK 264/Pyrethrins/Pyriproxyfen/Permethrin product affected by the cancellation order.

FOR FURTHER INFORMATION CONTACT: Katie Weyrauch, Pesticide Re-evaluation Division, (7508P), Office of Pesticide Programs, Environmental Protection Agency, 1200 Pennsylvania Ave. NW., Washington, DC 20460-0001; telephone number: (703) 308-0166; email address: weyrauch.katie@epa.gov.

SUPPLEMENTARY INFORMATION:

I. General Information

A. Does this action apply to me?

The Agency included in the notice a list of those who may be potentially affected by this action.

B. How can I get copies of this document and other related information?

The docket for this action, identified by docket identification (ID) number EPA-HQ-OPP-2009-1017, is available at http://www.regulations.gov or at the Office of Pesticide Programs Regulatory Public Docket (OPP Docket) in the Environmental Protection Agency Docket Center (EPA/DC), EPA West Bldg., Rm. 3334, 1301 Constitution Ave. NW., Washington, DC 20460-0001. The Public Reading Room is open from 8:30 a.m. to 4:30 p.m., Monday through Friday, excluding legal holidays. The telephone number for the Public Reading Room is (202) 566-1744, and the telephone number for the OPP Docket is (703) 305-5805. Please review the visitor instructions and additional information about the docket available at http://www.epa.gov/dockets.

II. What does this correction do?

1. FR Doc. 2011-29990 published in the Federal Register of November 23, 2011 (76 FR 72405) (FRL-9327-2) is corrected as follows:

On page 72407, Table 1, under the heading Registrations with Pending Requests for Cancellation, in the first column, registration number “010807-00448” is corrected to read “010807-447.” On page 72407, in Table 1, in the second column, correct product name “Country Vet Flea & Tick Fogger with Growth Inhibitor” to read “Purge Insecticide.” On page 72407, in Table 1, in the third column, correct active ingredients “MGK 264 Pyrethrins Pyriproxyfen Permethrin” to read “Piperonyl butoxide Pyrethrins.”

2. FR Doc. 2012-2982 published in the Federal Register of February 15, 2012 (77 FR 8863) (FRL-9336-3) is corrected as follows:

On page 8863, Table 1, under the heading Product Cancellations, in the first column, registration number “010807-00448” is corrected to read “010807-447.” On page 8863, in Table 1, in the second column, correct product name “Country Vet Flea & Tick Fogger with Growth Inhibitor” to read “Purge Insecticide.” On page 8863, in Table 1, in the third column, correct active ingredients “MGK 264 Pyrethrins Pyriproxyfen Permethrin” to read “Piperonyl butoxide Pyrethrins.”

List of Subjects

Environmental protection, Pesticides and pests.

Dated: August 21, 2012.
Jeffrey S. Billingslea,
Acting Director, Pesticide Re-evaluation Division, Office of Pesticide Programs.

[FR Doc. 2012-21433 Filed 8-30-12; 8:45 am]

BILLING CODE 6560-50-P